DEPARTMENT OF VETERANS AFFAIRS

Solicitation of Nominations for Appointment to the Advisory Committee on Cemeteries and Memorials

ACTION: Notice.

SUMMARY: The Department of Veterans Affairs (VA), National Cemetery Administration (NCA), is seeking nominations of qualified candidates to be considered for appointment as a member of the Advisory Committee on Cemeteries and Memorials (herein-after in this section referred to as “the Committee”). In accordance with Public Law 93-43, there shall be appointed by the Secretary an Advisory Committee on Cemeteries and Memorials. The Secretary shall advise and consult with the Committee from time to time with respect to the administration of the cemeteries for which the Secretary is responsible. Nominations of qualified candidates are being sought to fill upcoming vacancies on the Committee.

DATES: Nominations for membership on the Committee must be received no later than 5:00 p.m. EST on August 15, 2014.

ADDRESSES: All nominations should be mailed to National Cemetery Administration, Department of Veterans Affairs, 810 Vermont Ave. NW., (43A2), Washington, DC 20420, or faxed to (202) 632-7910.

FOR FURTHER INFORMATION CONTACT: Mr. Michael Nacincik, National Cemetery Administration, Department of Veterans Affairs, 810 Vermont Ave. NW., (43A2), Washington, DC 20420, telephone (202) 632-8013. A copy of Committee charter and list of the current membership can be obtained by contacting Mr. Nacincik or by accessing the Web site managed by NCA at: http://www.cem.va.gov/cem/about/advisory_committee.asp.

SUPPLEMENTARY INFORMATION: Appointed by the Secretary, the Advisory Committee on Cemeteries and Memorials (ACCM) was established under Public Law 93-43, June 18, 1973) Title 38 United States Code, Section 2401. The Committee consists of veterans who represent diversity and are recognized authorities in fields pertinent to the needs of Veterans they embody. Diversity group member means an individual who is Asian American, Black, Hispanic, Native American (including American Indian, Alaska Native, and Native Hawaiian), or Pacific Islander American. The Committee responsibilities include:

(1) Advising the Secretary and Congress on VA's administration on burial benefits and the selection of cemetery sites, the erection of appropriate memorials, and the adequacy of Federal burial benefits;

(2) Providing to Congress an annual report outlining recommendations, concerns, and observations on VA's delivery of services to Veterans;

(3) Meeting with VA officials, Veteran Service Organizations, and other stakeholders to access the Department's efforts in providing burial benefits and outreach to Veterans and their dependents.

Management and support services for the Committee are provided by NCA.

Nominations: NCA is requesting nominations for upcoming vacancies on the Committee. The Committee is currently composed of 11 members, in addition to ex-officio members. This announcement is seeking nominations of Committee members. The members of the Committee are appointed by the Secretary of Veteran Affairs from the general public, including:

(1) Veterans or other individuals who are recognized authorities in fields pertinent to the needs of Veterans;

(2) Veterans who have experience in a military theater of operations;

(3) Recently separated veterans.

The Secretary shall determine the number, terms of service, and pay and allowances of members of the Committee appointed by the Secretary, except that a term of service of any such member may not exceed four years. The Secretary may reappoint any such member for additional terms of service.

Required Professional Qualifications: Nominees should meet all of the following criteria to be eligible for consideration.

(1) Must be diverse in your professional and personal qualifications;

(2) Must have experience in military service and military deployments;

(3) Is currently working with veterans;

(4) Committee subject matter expertise;

(5) Have experience working in large and complex organizations;

(6) Must identify your Branch of Service and Rank;

(7) Must identify your Race and Ethnicity to ensure balance of membership.

Desirable Qualifications:

Requirements for Nomination Submission: Nominations should be type written (one nomination per nominator). Nomination package should include: (1) A letter of nomination that clearly states the name and affiliation of the nominee, the basis for the nomination (i.e. specific attributes which qualify the nominee for service in this capacity), and a statement from the nominee indicating the willingness to serve as a member of the Committee; (2) the nominee's contact information, including name, mailing address, telephone numbers, and email address; (3) the nominee's curriculum vitae; and (4) a summary of the nominee's experience and qualifications relative to the required professional qualifications criteria listed above.

Individuals selected for appointment to the Committee shall be invited to serve a two-year term. Committee members will receive a stipend for attending Committee meetings, including per diem and reimbursement for travel expenses incurred.

The Department makes every effort to ensure that the membership of VA federal advisory committees is fairly balanced in terms of points of view represented and the Committee's function. Every effort is made to ensure that a broad representation of geographic areas, males and females, racial and ethnic minority groups, and the disabled are given consideration for membership on VA federal advisory committees. Appointment to this Committee shall be made without discrimination because of a person's race, color, religion, sex, national origin, age, disability, or genetic information. Nominations must state that the nominee is willing to serve as a member of the Committee and appears to have no conflict of interest that would preclude membership. An ethics review is conducted for each selected nominee.

Dated: July 15, 2014.
Jelessa Burney,
Federal Advisory Committee Management Officer.

[FR Doc. 2014-16929 Filed 7-17-14; 8:45 am]

BILLING CODE P